DEPARTMENT OF LABOR

Employment and Training Administration

[TA-W-59,230]

Stolt Sea Farm, a Subsidiary of Stolt-Nielsen, S.A., Currently Known as Marine Harvest U.S., Inc., Acquired by True North Foods, U.S., Inc., Including On-Site Temporary Workers of Hamilton Connections and Adecco, Stratford, CT; Amended Certification Regarding Eligibility To Apply for Worker Adjustment Assistance and Alternative Trade Adjustment Assistance

In accordance with section 223 of the Trade Act of 1974 (19 U.S.C. 2273) the Department of Labor issued a Certification of Eligibility To Apply for Worker Adjustment Assistance and Alternative Trade Adjustment Assistance on May 18, 2006, applicable to workers of Stolt Sea Farm, a subsidiary of Stolt-Nielsen, S.A., including on-site leased workers of Hamilton Connections and Adecco, Stratford, Connecticut. The notice was published in the Federal Register on June 9, 2006 (71 FR 33488).

At the request of the State agency, the Department reviewed the certification for workers of the subject firm. The workers processed Atlantic salmon.

On December 30, 2005, True North Foods, U.S., Inc. purchased certain U.S. East Coast operating assets of Marine Harvest U.S., Inc., formerly known as Stolt Sea Farm.

Information also shows that all workers separated from employment at Stolt Sea Farm had their wages reported under a separate unemployment insurance (UI) tax account for True North Foods U.S., Inc.

Accordingly, the Department is amending this certification to properly reflect this matter.

The intent of the Department's certification is to include all workers of Stolt Sea Farm, a subsidiary of Stolt-Nielsen, S.A., currently known as Marine Harvest U.S., Inc., acquired by True North Foods, U.S., Inc. who were adversely affected by a shift in production to New Brunswick, Canada.

The amended notice applicable to TA-W-59,230 is hereby issued as follows:

All workers of Stolt Sea Farm, a subsidiary of Stolt-Nielsen, S.A., currently known as Marine Harvest U.S., Inc., acquired by True North Foods, U.S., Inc., including on-site temporary workers of Hamilton Connections and Adecco, Stratford, Connecticut, who became totally or partially separated from employment on or after April 17, 2005, through May 18, 2008, are eligible to apply for adjustment assistance under Section 223 of the Trade Act of 1974 and are also eligible to apply for alternative trade adjustment assistance under Section 246 of the Trade Act of 1974.

Signed at Washington, DC, this 6th day of July 2006.
Richard Church,
Certifying Officer, Division of Trade Adjustment Assistance.

[FR Doc. E6-12206 Filed 7-28-06; 8:45 am]

BILLING CODE 4510-30-P